DEPARTMENT OF HOUSING AND URBAN DEVELOPMENT

[Docket No. FR-4497-N-10]

Public Housing Assessment System (PHAS): Notice of Extended Submission Period for PHAS Management Operations Certification and Audited Financial Statement for Certain PHAs

AGENCY: Office of the Assistant Secretary for Public and Indian Housing, and Office of the Director of the Real Estate Assessment Center, HUD.

ACTION: Notice.

SUMMARY: This document follows HUD's announcement on August 9, 2000, that provided to those public housing agencies (PHAs), with fiscal year ends of September 30, 1999 and December 31, 1999, which did not fully meet the submission requirements for their PHAS management operations certification, additional time to submit or resubmit the certification. The August 9, 2000, notice also provided PHAs with a fiscal year ended September 30, 1999, with additional time to submit audited financial statements. The majority of PHAs covered by the August 9, 2000, notice successfully completed submission or resubmission of the management operations certification or audited financial statement. However, several PHAs continued to experience submission difficulties. This document provides notice that HUD is providing PHAs with fiscal years ended September 30, 1999, December 31, 1999, and March 31, 2000, with additional time to make their PHAS management operations certification submissions. This document also provides notice that HUD is providing PHAs with fiscal years ended September 30, 1999, and December 31, 1999, with additional time to make their audited financial statement submissions.

FOR FURTHER INFORMATION CONTACT: For further information contact the Real Estate Assessment Center (REAC), Attention: Wanda Funk, Department of Housing and Urban Development, 1280 Maryland Avenue, SW., Suite 800, Washington DC, 20024; telephone Technical Assistance Center at (888) 245-4860 (this is a toll free number). Persons with hearing or speech impairments may access that number via TTY by calling the Federal Information Relay Service at (800) 877-8339. Additional information is available from the REAC Internet Site, http://www.hud.gov/reac.

SUPPLEMENTARY INFORMATION:

Background

HUD's Public Housing Assessment System (PHAS) provides for the assessment of the physical condition, financial condition, management operations and resident services and satisfaction of public housing. HUD's regulations implementing the PHAS and codified in 24 CFR part 902 provide for this assessment to be made through physical inspection of public housing properties, survey of public housing residents, and a PHA's submission of audited financial statements and its certification to certain management data as required by the regulations. HUD's PHAS regulations were amended by a final rule published on January 11, 2000 (65 FR 1712) and a technical correction was published on June 6, 2000 (65 FR 36042).

In a notice published on August 9, 2000 (65 FR 48730), HUD advised that due to errors or difficulties in submission of their management operations certifications, certain PHAs with fiscal years ended September 30, 1999, and December 31, 1999, did not fully meet the requirements under the PHAS Management Operations Indicator. HUD therefore advised these PHAs that they could submit or resubmit the management operations certification, as applicable, without penalty during the time periods outlined in Table 1 of the August 9, 2000, notice.

Additionally, in the August 9, 2000 notice, HUD advised that the audited financial statements of certain PHAs with a fiscal year ended September 30, 1999, were not all properly received and processed. The August 9, 2000, notice therefore provided these PHAs with additional time to submit their audited financial statements.

The majority of PHAs covered by the August 9, 2000, notice successfully completed submission or resubmission of their management operations certification or audited financial statement. However, several PHAs continued to experience difficulties.

This document provides notice that HUD is providing the PHAs with fiscal years ended September 30, 1999, and December 31, 1999, as well as PHAs with a fiscal year ending March 31, 2000, with additional time to make their PHAS management operations certification submissions. This document also provides notice that HUD is providing PHAs with fiscal years ending September 30, 1999, and December 31, 1999, with additional time to make their audited financial statement submissions.

Management operations certifications must be submitted to REAC no later than December 21, 2000.

Audited financial statements must be submitted to REAC no later than December 6, 2000.

Dated: November 14, 2000.
Harold Lucas,
Assistant Secretary for Public and Indian Housing.
Donald J. LaVoy,
Director, Real Estate Assessment Center.

[FR Doc. 00-29674 Filed 11-20-00; 8:45 am]

BILLING CODE 4210-33-P